DEPARTMENT OF HOMELAND SECURITY

Coast Guard

33 CFR Part 117

[Docket No. USCG-2014-0303]

Drawbridge Operation Regulation; Miner Slough, Near Rio Vista, CA

AGENCY: Coast Guard, DHS.

ACTION: Notice of deviation from drawbridge regulation.

SUMMARY: The Coast Guard has issued a temporary deviation from the operating schedule that governs the California Department of Transportation, Hwy 84 drawbridge across Miner Slough, mile 5.5, near Rio Vista, CA. The deviation is necessary to allow the bridge owner to repair the damaged deck system of the bridge. This deviation allows the bridge to remain in the closed-to-navigation position with a 7 foot reduction in vertical clearance during the deviation period.

DATES: This deviation is effective without actual notice from May 1, 2014 through 6 p.m. on July 21, 2014. For the purposes of enforcement, actual notice will be used from 7 a.m. on April 23, 2014, until May 1, 2014.

ADDRESSES: The docket for this deviation, [USCG-2014-0303], is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email David H. Sulouff, Chief, Bridge Section, Eleventh Coast Guard District; telephone 510-437-3516, email David.H.Sulouff@uscg.mil. If you have questions on viewing the docket, call Cheryl Collins, Program Manager, Docket Operations, telephone 202-366-9826.

SUPPLEMENTARY INFORMATION: The California Department of Transportation has requested a temporary change to the operation of the Hwy 84 drawbridge, mile 5.5, over Miner Slough near Rio Vista, CA. The drawbridge navigation span ordinarily provides 17 feet vertical clearance above Mean High Water in the closed-to-navigation position. Containment installed below low steel of the bridge reduces vertical clearance by 7 feet and will be lighted at night with red lights. In accordance with 33 CFR 117.173 Miner Slough, the draw of the California Department of Transportation highway bridge, mile 5.5 between the northerly end of Ryer Island and Holland Tract, shall open on signal if at least 12 hours notice is given to the drawtender at the Rio Vista bridge across the Sacramento River, mile 12.8. Navigation on the waterway is commercial and recreational.

The drawspan will be secured in the closed-to-navigation position from 7 a.m. on April 23, 2014 to 6 p.m. on July 21, 2014, to allow Caltrans to repair the damaged deck system of the bridge. This temporary deviation has been coordinated with the waterway users. No objections to the proposed temporary deviation were raised.

Vessels able to pass through the bridge in the closed position with a 7 foot reduction in vertical clearance due to containment installed below the bridge, may do so at any time. The bridge will not be able to open for emergencies during this deviation. The Sacramento Deep Water Channel and Steamboat Slough can be used as alternate routes for vessels unable to pass through the bridge in the closed position, and with containment installed. The Coast Guard will also inform the users of the waterways through our Local and Broadcast Notices to Mariners of the change in operating schedule for the bridge so that vessels can arrange their transits to minimize any impact caused by the temporary deviation.

In accordance with 33 CFR 117.35(e), the drawbridge must return to its regular operating schedule and all encroachments in the navigational openings shall be removed, immediately at the end of the effective period of this temporary deviation. This deviation from the operating regulations is authorized under 33 CFR 117.35.

Dated: April 21, 2014.
D.H. Sulouff,
District Bridge Chief, Eleventh Coast Guard District.

[FR Doc. 2014-09986 Filed 4-30-14; 8:45 am]

BILLING CODE 9110-04-P